DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 58431-58432, dated October 6, 2005) is amended to reorganize the National Personal Protective Technology Laboratory, National Institute for Occupational Safety and Health.

Section C-B, Organization and Functions, is hereby amended as follows:

After the title for the National Personal Protective Technology Laboratory (CCL) delete the functional statement and insert the following:

The mission of the National Personal Protective Technology Laboratory (NPPTL) is to prevent work-related injury and illness by ensuring the development, certification, deployment, and use of personal protective equipment and fully integrated, intelligent ensembles. To accomplish its mission, NPPTL: (1) Conducts a variety of laboratory and field research relating to the development and evaluation of innovative personal protective technologies and equipment; (2) researches and develops criteria, standards and guidelines relating to personal protective technology (PPT) performance, quality, reliability and efficacy; (3) directs and carries out the NIOSH respirator approval program and related laboratory, field, quality, and records activities; (4) produces and disseminates research findings, technical information, training materials, performance criteria, and recommendations for using personal protective equipment to improve protection of workers; (5) conducts surveillance of hazards at worksites for which protective technologies and equipment are used to protect workers, and studies patterns of personal protective technology (PPT) use; and (6) develops studies and assesses the effectiveness of communications and training approaches and technologies relating to PPT.

Technology Evaluation Branch (CCLE). (1) Administers Department of health and Human Services 42 CFR part 84 respirator approval program including processing respirator approval applications; i.e., certifying performance, quality, reliability, and efficacy of respiratory protection devices in accordance with Federal regulations and NIOSH policy; (2) evaluates and maintains official records on NIOSH-approved respirators; (3) evaluates quality control plans, including in-plant manufacturing-site quality system audits, and monitors the quality and performance of certified respirators; (4) evaluates personal protective technologies and equipment; (5) investigates field problems associated with NIOSH-certified respirators and other PPE; (6) recommends NIOSH activities to address product non-conformance such as NIOSH approval rescission, product recalls or retrofits, and public notification of potentially unsafe PPE products; (7) provides technical assistance on the selection, use, maintenance, and operation of respiratory protective equipment and other PPE; (8) conducts PPT failure investigations and analyses, and recommends criteria to improve PPT, and (9) recommends user guidelines, including cautions, limitations, and restrictions of use.

Technology Research Branch (CCLG). (1) Encourages and conducts research related to innovative technologies for new products; (2) conducts laboratory and field research of methods and PPT performance, quality, reliability, and efficacy, especially for new or emerging hazards and recommends criteria to improve PPT; (3) investigates emerging hazards and personal exposures to identify worker PPT needs and technology gaps; (4) conducts research for the effective integration of various personal protective technologies and equipment; (5) recommends performance, quality, reliability, and efficacy criteria; (6) conducts hypothesis testing-based research; (7) studies and improves human/technology interfaces; and (8) conducts research into the physiologic and psychologic stressors and worker responses to protective technologies and equipment.

Policy and Standards Development Branch (CCLH). (1) Develops and promulgates new approval PPE-related standards and regulations; (2) identifies where research is needed to support new standards, regulations, and policies relating to NIOSH-certified respirators and other PPE; (3) recommends NIOSH policy relating to the approval of respirators, including approval policies for innovative respirator features; (4) assesses research findings and translates them into effective recommendations for NIOSH policy, regulations, and auditing practices, especially for new PPE technologies or special applications of these technologies; (5) holds public meetings to solicit information concerning users needs and the feasibility of specific technologies; (6) participates in national and international PPE standard setting committees and establishes a national/international database of relevant standards, and (7) determines the public financial and legal impacts of Federal regulation revision.

Delete in their entirety the following titles and functional statements for the NPPTL: Respirator Branch (CCC2), Technology Research Branch (CCC3), Surveillance Communications and Training Branch (CCC4).

Dated: June 3, 2005.
William H. Gimson,
Chief Operating Officer, Centers for Disease Control and Prevention (CDC).

[FR Doc. 05-20790 Filed 10-17-05; 8:45am]

BILLING CODE 4160-18-M